DEPARTMENT OF THE INTERIOR

Fish and Wildlife Service

Notice of Receipt of Applications for Permit

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address below) and must be received within 30 days of the date of this notice.

Applicant: Omaha's Henry Doorly Zoo, Omaha, NE, PRT-048291.

The applicant request a permit to import biological samples from African elephants (Loxadonta africana) from Kruger National Park, South Africa, for the purpose of scientific research.

Applicant: San Diego Zoo, San Diego, CA, PRT-049768.

The applicant request a permit to import four captive born African wild dogs (Lycaon pictus) from Mountain View Farms, B.C., Canada, for the purpose of enhancement of the survival of the species through propagation.

Applicant: Roger L. Warner, Hickman, CA, PRT-049669.

The applicant requests a permit to import the sport-hunted trophy of one male bontebok (Damaliscus pygargus dorcas) culled from a captive herd maintained under the management program of the Republic of South Africa, for the purpose of enhancement of the survival of the species.

Applicant: Ed Shallenberger, Omak, WA, PRT-049670.

The applicant requests a permit to import the sport-hunted trophy of one male bontebok (Damaliscus pygargus dorcas) culled from a captive herd maintained under the management program of the Republic of South Africa, for the purpose of enhancement of the survival of the species.

Applicant: Victoria Windland-Taraska, Belleview, FL, PRT—039259.

The applicant requests a permit to export and re-import tigers (Panthera tigris) and African leopards (Panther pardus), and progeny of the animals currently held by the applicant and any animals acquired in the United States by the applicant to/from worldwide locations to enhance the survival of the species through conservation education. This notification covers activities conducted by the applicant over a three year period.

Applicant: Russell E. Jacobs, Ph.D., California Institute of Technology, Pasadena, CA, PRT-043952.

The applicant requests a permit to import five male and seven female captive-born lesser mouse lemurs (Microcebus murinus) from Dr. Martine Perret, Laboratoire d'Ecologie generale, Brunoy, France, for the purpose of captive breeding and scientific research.

Marine Mammals

The public is invited to comment on the following application(s) for a permit to conduct certain activities with marine mammals. The application(s) was submitted to satisfy requirements of the Marine Mammal Protection Act of 1972, as amended (16 U.S.C. 1361 et seq.) and the regulations governing marine mammals (50 CFR part 18).

Written data, comments, or requests for copies of these complete applications or requests for a public hearing on these applications should be submitted to the Director (address below) and must be received within 30 days of the date of this notice. Anyone requesting a hearing should give specific reasons why a hearing would be appropriate. The holding of such a hearing is at the discretion of the Director.

Applicant: Sherman J. Silber, M.D., St. Louis, MO, PRT-049529.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: November 2, 2001.
Anna Barry,
Senior Permit Biologist, Branch of Permits, Division of Management Authority.

[FR Doc. 01-28599 Filed 11-14-01; 8:45 am]

BILLING CODE 4310-55-P